DEPARTMENT OF ENERGY

Federal Energy Regulatory Commission

[Docket No. RP04-360-000]

Martimes and Northeast Pipeline, LLC; Notice of Informal Settlement Conference

November 30, 2004.

Take notice that an informal settlement conference will be convened in this proceeding at 9:30 a.m. (e.s.t.) on Friday, December 3, 2004, at the offices of the Federal Energy Regulatory Commission, 888 First Street, NE., Washington, DC 20426, for the purpose of exploring the possible settlement of the above-referenced docket.

Any party, as defined by 18 CFR 385.102(c), or any participant as defined by 18 CFR 385.102(b), is invited to attend. Persons wishing to become a party must move to intervene and receive intervenor status pursuant to the Commission's regulations (18 CFR 385.214).

For additional information, please contact Arnold H. Meltz at (202) 502-8649 or Moira B. Notargiacomo at (202) 502-8083.

Magalie R. Salas,
Secretary.

[FR Doc. E4-3487 Filed 12-6-04; 8:45 am]

BILLING CODE 6717-01-P